DEPARTMENT OF DEFENSE

Department of the Navy

Notice of Proposed Information Collection; United States Naval Academy

AGENCY: Department of the Navy, DOD.

ACTION: Notice.

SUMMARY: The United States Naval Academy announces a proposed extension of a currently approved public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by January 7, 2003.

ADDRESSES: Send written comments and recommendations on the proposed information collection to the Admissions Office, United States Naval Academy, 117 Decatur Road, Annapolis, MD 21402-5017.

FOR FURTHER INFORMATION CONTACT: To request additional information or to obtain a copy of the proposal and associated collection instruments, contact Mr. Nick Pantelides, telephone (410) 293-1803.

SUPPLEMENTARY INFORMATION: Form Title and OMB Number: Application Procedures for United States Naval Academy; OMB Control Number 0703-0036.

Needs and Uses: This collection of information is necessary to determine the eligibility and evaluate overall competitive standing of candidates for appointment to the United States Naval Academy. An analysis of the information collected is made by the Admissions Board during the process in order to gauge the qualifications of individual candidates.

Affected Public: Individuals or households, Federal agencies or employees.

Annual Burden Hours: 30,000.

Number of Respondents: 10,000.

Responses per Respondent: 1.

Average Burden per Response: 3 hours.

Frequency: On occasion.

(Authority: 44 U.S.C. Sec. 3506(c)(2)(A)).
Dated: October 30, 2002.
R.E. Vincent II,
Lieutenant Commander, Judge Advocate General's Corps, U.S. Navy, Federal Register Liaison Officer.

[FR Doc. 02-28493 Filed 11-7-02; 8:45 am]

BILLING CODE 3810-FF-P